DEPARTMENT OF COMMERCE

National Oceanic and Atmospheric Administration

RIN 0648-XD930

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or are in an overfished condition: Gulf of Maine/Northern Georges Bank red hake, which is managed by the New England Fishery Management Council, is now subject to overfishing, but is not overfished; and Southeast Florida hogfish, which is jointly managed by the Gulf of Mexico and South Atlantic Fishery Management Councils, is now subject to overfishing and is in an overfished condition. NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Regina Spallone, (301) 427-8568.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing. Section 304(e)(2) further requires NMFS to publish these notices in the Federal Register.

NMFS has determined that the Gulf of Maine/Northern Georges Bank stock of red hake is now subject to overfishing. The New England Fishery Management Council has been informed that they must end overfishing on this stock.

NMFS has determined that the Southeast Florida stock of hogfish is now subject to overfishing and in an overfished condition. The Southeast Florida stock of hogfish was recently identified as a separate stock among a total of three hogfish stocks. The Gulf of Mexico Fishery Management Council and the South Atlantic Fishery Management Council have been informed that they must end overfishing and rebuild the Southeast Florida stock of hogfish.

Dated: June 9, 2015.
Emily H. Menashes,
Acting Director, Office of Sustainable Fisheries, National Marine Fisheries Service.

[FR Doc. 2015-14625 Filed 6-12-15; 8:45 am]

BILLING CODE 3510-22-P